GENERAL ACCOUNTING OFFICE

Federal Accounting Standards Advisory Board

AGENCY: General Accounting Office.

ACTION: Notice of Meeting on February 10-11, 2000.

Board Meeting Summary: Pursuant to section 10(a)(2) of the Federal Advisory Committee Act (Pub. L. No. 92-463), as amended, notice is hereby given that the Federal Accounting Standards Advisory Board will hold a meeting on Thursday, February 10, and Friday, February 11, from 9:00 to 4:30 P.M. room 7C13, the Elmer Staats Briefing Room, of the General Accounting Office building, 441 G St., N.W., Washington, D.C.

The purpose of the meeting is to discuss:

• The process for developing Technical Bulletins.

• National Defense PP&E.

• Major Acquisition Programs.

• Amendments to Direct Loans and Loan Guarantee Accounting.

• Other topics as needed.

Any interested person may attend the meeting as an observer. Board discussions and reviews are open to the public.

FOR FURTHER INFORMATION CONTACT: Wendy Comes, Executive Director, 441 G St., N.W., Room 6814, Washington, D.C. 20548, or call (202) 512-0730.

Authority: Federal Advisory Committee Act. Pub. L. No. 92-463, Section 10(a)(2), 86 Stat. 770, 774 (1972) (current version at 5 U.S.C. app. section 10(a)(2) (1988); 41 CFR 101-6.1015 (1990).

Dated: January 24, 2000.
Wendy M. Comes,
Executive Director.

[FR Doc. 00-1981 Filed 1-26-00; 8:45 am]

BILLING CODE 1610-01-M